SECURITIES AND EXCHANGE COMMISSION

Sunshine Act Meeting

Federal Register Citation of Previous Announcement:

[To Be Published]

STATUS: Closed Meeting.

PLACE: 100 F Street NE., Washington, DC.

DATE AND TIME OF PREVIOUSLY ANNOUNCED MEETING: Thursday, August 13, 2015.

CHANGE IN THE MEETING: Cancellation of Meeting.

The Closed Meeting scheduled for Thursday, August 13, 2015 at 2:00 p.m. has been cancelled.

For further information please contact the Office of the Secretary at (202) 551-5400.

Dated: August 10, 2015.
Brent J. Fields,
Secretary.

[FR Doc. 2015-19993 Filed 8-10-15; 4:15 pm]

BILLING CODE 8011-01-P